DEPARTMENT OF THE INTERIOR

National Park Service

[NPS-PWR-YOSE-19170; PS.SPWLA0056.00.1]

Minor Boundary Revision at Yosemite National Park

AGENCY: National Park Service, Interior.

ACTION: Notification of Boundary Revision.

SUMMARY: The boundary of Yosemite National Park is modified to include 400 acres of land located in Tuolumne County, California, immediately adjoining the current park boundary. Subsequent to the proposed boundary revision, the National Park Service (NPS) will acquire the land by donation from The Trust for Public Land, a nonprofit conservation organization.

DATES: The effective date of this boundary revision is January 19, 2016.

ADDRESSES: The map depicting this boundary revision is available for inspection at the following locations: National Park Service, Land Resources Program Center, Pacific West Region, 333 Bush Street, Suite 500, San Francisco, CA 94104, and National Park Service, Department of the Interior, 1849 C Street NW., Washington, DC 20240.

FOR FURTHER INFORMATION CONTACT: Chief Realty Officer Gregory Gress, National Park Service, Land Resources Program Center, Pacific West Region, 333 Bush Street, Suite 500, San Francisco, CA 94104, telephone (415) 623-2120.

SUPPLEMENTARY INFORMATION: Notice is hereby given that, pursuant to 54 U.S.C. 100506(c), the boundary of Yosemite National Park is modified to include 400 acres of land known as Ackerson Meadow and identified as NPS Tract 20-133, Tuolumne County tax parcel number 068-210-02-00. The boundary revision is depicted on Map No. 104-127401 dated August 2015.

54 U.S.C. 100506(c) provides that, after notifying the House Committee on Natural Resources and the Senate Committee on Energy and Natural Resources, the Secretary of the Interior is authorized to make this boundary revision upon publication of notice in the Federal Register. The Committees have been notified of this boundary revision. The inclusion of the Ackerson Meadow property within the park will enable the NPS to properly protect and manage significant animal and plant habitat.

Dated: October 7, 2015.
Martha J. Lee,
Acting Regional Director, Pacific West Region.

This document was received at the Federal Register on January 12, 2016.

[FR Doc. 2016-00790 Filed 1-15-16; 8:45 am]

BILLING CODE 4312-FF-P